DEPARTMENT OF HOUSING AND URBAN DEVELOPMENT

[Docket No. FR-5375-N-19]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, Attn: Jennifer Stomber, 2100 Second St., SW., Stop 7901, Washington, DC 20593-0001; (202) 475-5609; Energy: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; Navy: Mr. Albert Johnson, Director, Department of the Navy, Asset Management Div., Naval Facilities Engineering Command, Washington Navy Yard, 1322 Patterson Ave., SE., Suite 1000, Washington, DC 20374-5065; (202) 685-9305; (these are not toll-free numbers).

Dated: May 13, 2010.
Mark R. Johnston,
Deputy Assistant Secretary for Special Needs.

TITLE V, FEDERAL SURPLUS PROPERTY PROGRAM FEDERAL REGISTER REPORT FOR 05/21/2010

Suitable/Available Properties

Building

California

Former SSA Bldg. 1230 12th Street

Modesto CA 95354

Landholding Agency: GSA

Property Number: 54201020002

Status: Surplus

GSA Number: 9-G-CA-1610

Comments: 11,957 sq. ft., needs rehab/seismic retrofit work, potential groundwater contamination below site, potential flooding

Suitable/Unavailable Properties

Land

Virginia

1 acre

Marine Corps Base

Quantico VA

Landholding Agency: Navy

Property Number: 77201020014

Status: Underutilized

Comments: land encumbered

Unsuitable Properties

Building

Arizona

Waddell Canal Water Site

Hwy 74

Peoria AZ 85383

Landholding Agency: GSA

Property Number: 54201020001

Status: Excess

GSA Number: 9-I-AZ-0857

Reasons: Other—landlocked

California

Bldg. 050D

Lawrence Berkeley Natl Lab

Berkeley CA 94720

Landholding Agency: Energy

Property Number: 41201020002

Status: Excess

Reasons: Extensive deterioration, Secured Area

Bldg. 1578

Lawrence Livermore Lab

Livermore CA

Landholding Agency: Energy

Property Number: 41201020003

Status: Excess

Reasons: Secured Area

Florida

14 Bldgs.

Naval Air Station

Jacksonville FL

Landholding Agency: Navy

Property Number: 77201020007

Status: Unutilized

Directions: 12, 127, 127E, 127F, 127I,640, 640B, 640C, 640D, 640E, 640F, 1913, 1960, 1964

Reasons: Secured Area and Extensive deterioration

Hawaii

13 Bldgs.

Marine Corps Base

Kaneohe HI 96863

Landholding Agency: Navy

Property Number: 77201020008

Status: Excess

Directions: 1056, 1059, 1060, 1082, 1152, 1161, 1162, 1164, 1638, 3001, 3053, 3074, 5020

Reasons: Extensive deterioration

Bldgs. 5378, 469

Ford Island Naval Station

Pearl Harbor HI 96860

Landholding Agency: Navy

Property Number: 77201020009

Status: Underutilized

Reasons: Secured Area

New Mexico

28 Bldgs.

Los Alamos National Lab

Los Alamos NM 87545

Landholding Agency: Energy

Property Number: 41201020004 Status: Unutilized

Directions: 03-0406, 03-0480, 03-1524, 03-1525, 03-1526, 03-1530, 03-1540, 03-1541, 03-1736, 03-1737, 03-1738, 03-1903, 18-0184, 49-0135,55-0043, 57-0115, 59-0029, 59-0030, 59-0031, 59-0032, 59-0033, 59-0034, 50-0035, 59-0036, 59-0037, 59-0118, 59-0119, 59-0123

Reasons: Secured Area

22 Bldgs.

Los Alamos National Lab

Los Alamos NM 87545

Landholding Agency: Energy

Property Number: 41201020005

Status: Unutilized

Directions: 16-0280, 16-0281, 16-0283, 16-0285, 16-0286, 16-0460, 16-0462, 16-0463, 16-1477, 16-1481, 16-1488, 18-0030, 18-0032, 18-0116, 18-0119, 18-0122, 18-0127, 18-0138, 18-0187, 18-0188, 18-0190, 18-0256

Reasons: Secured Area

New York

Bldg. 0051

Brookhaven National Lab

Upton NY 11973

Landholding Agency: Energy

Property Number: 41201020006

Status: Excess

Reasons: Within 2000 ft. of flammable or explosive material Secured Area

Ohio

Federal Building

201 Cleveland Ave.

Canton OH 44702

Landholding Agency: GSA

Property Number: 54201010018

Status: Excess

GSA Number: 1-G-OH-840

Directions: Redetermination

Reasons: Within 2000 ft. of flammable or explosive material

South Carolina

4 Bldgs.

Naval Weapon Station

Goose Creek SC 29445

Landholding Agency: Navy

Property Number: 77201020010

Status: Unutilized

Directions: 40, 72, 81, 85A, various miscellaneous properties

Reasons: Secured Area and Extensive deterioration

Texas

Facility 38

Naval Air Station

Ft. Worth TX

Landholding Agency: Navy

Property Number: 77201020011

Status: Unutilized

Reasons: Extensive deterioration

Bldgs. 4151, 1809

Naval Air Station

Ft. Worth TX

Landholding Agency: Navy

Property Number: 77201020012

Status: Unutilized

Reasons: Secured Area

Bldg. 1428

Naval Air Station

Ft. Worth TX 76127

Landholding Agency: Navy

Property Number: 77201020013

Status: Unutilized

Reasons: Secured Area and Extensive deterioration

Virginia

2 Fiberglass Huts

USCG Training Center

Yorktown VA

Landholding Agency: Coast Guard

Property Number: 88201020001

Status: Excess

Reasons: Secured Area

Land

California

Parcel C-1, Right of Way

APN199064-15

Seal Beach CA

Landholding Agency: GSA

Property Number: 54201020003

Status: Surplus

GSA Number: 9-N-CA-1508-AD

Reasons: Other—legal constraints/encroachment

Parcel E, Right of Way

APN19906615

Seal Beach CA 90740

Landholding Agency: GSA

Property Number: 54201020004

Status: Surplus

GSA Number: 9-N-CA-1508-AE

Reasons: Other—legal constraints/encroachment

[FR Doc. 2010-11838 Filed 5-20-10; 8:45 am]

BILLING CODE 4210-67-P